DEPARTMENT OF THE INTERIOR

Minerals Management Service

Agency Information Collection Activities: Proposed Collection; Comment Request

AGENCY: Minerals Management Service (MMS), Interior.

ACTION: Notice of extension of an information collection (1010-0072).

SUMMARY: To comply with the Paperwork Reduction Act of 1995 (PRA), MMS is inviting comments on a collection of information that we will submit to the Office of Management and Budget (OMB) for review and approval. The information collection request (ICR) concerns the paperwork requirements in the regulations under 30 CFR 280, “Prospecting for Minerals Other than Oil, Gas, and Sulphur on the Outer Continental Shelf.”

DATE: Submit written comments by July 25, 2005.

ADDRESSES: You may submit comments by any of the following methods listed below. Please use the Information Collection Number 1010-0072 as an identifier in your message.

• Public Connect on-line commenting system, https://ocsconnect.mms.gov. Follow the instructions on the Web site for submitting comments.

• Email MMS at rules.comments@mms.gov. Identify with Information Collection Number 1010-0072 in the subject line.

• Fax: 703-787-1093. Identify with Information Collection Number 1010-0072.

• Mail or hand-carry comments to the Department of the Interior; Minerals Management Service; Attention: Rules Process Team (RPT); 381 Elden Street, MS-4024; Herndon, Virginia 20170-4817. Please reference “Information Collection 1010-0072” in your comments.

FOR FURTHER INFORMATION CONTACT: Cheryl Blundon, Rules Processing Team at (703) 787-1600. You may also contact Cheryl Blundon to obtain a copy, at no cost, of the regulation and the forms that require the subject collection of information.

SUPPLEMENTARY INFORMATION: Title: 30 CFR Part 280, Prospecting for Minerals Other than Oil, Gas, and Sulphur on the Outer Continental Shelf.

OMB Control Number: 1010-0072.

Forms: MMS-134, MMS-135, and MMS-136.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Section 1337(k) of the OCS Lands Act authorizes the Secretary “* * * to grant to the qualified persons offering the highest cash bonuses on a basis of competitive bidding leases of any mineral other than oil, gas, and sulphur in any area of the outer Continental Shelf not then under lease for such mineral upon such royalty, rental, and other terms and conditions as the Secretary may prescribe at the time of offering the area for lease.” An amendment to the OCS Lands Act (Pub. L. 103-426) authorizes the Secretary to negotiate agreements (in lieu of the previously required competitive bidding process) for the use of OCS sand, gravel, and shell resources for certain specified types of public uses. The specified uses will support construction of governmental projects for beach nourishment, shore protection, and wetlands enhancement; or any project authorized by the Federal Government.

Section 1340 states that “* * * any person authorized by the Secretary may conduct geological and geophysical [G&G] explorations in the outer Continental Shelf, which do not interfere with or endanger actual operations under any lease maintained or granted pursuant to this Act, and which are not unduly harmful to aquatic life in such area.” The section further requires that, permits to conduct such activities may only be issued if it is determined that the applicant is qualified; the activities are not polluting, hazardous, or unsafe; they do not interfere with other users of the area; and they do not disturb a site, structure, or object of historical or archaeological significance. Respondents are required to submit form MMS-134 to provide the information necessary to evaluate their qualifications. Upon approval, respondents are issued a permit on either form MMS-135 or MMS-136 depending on whether they are prospecting or conducting scientific research for “geological” or “geophysical” mineral resources.

Section 1352 further requires that certain costs be reimbursed to the parties submitting required G&G information and data. Under the Act, permittees are to be reimbursed for the costs of reproducing any G&G data required to be submitted. Permittees are to be reimbursed also for the reasonable cost of processing geophysical information required to be submitted when processing is in a form or manner required by the Director and is not used in the normal conduct of the business of the permittee.

MMS OCS Regions collect information required under part 280 to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the Government for certain costs.

Respondents are required to submit form MMS-134 to provide the information necessary to evaluate their qualifications. The information is necessary for MMS to determine if the applicants for permits or filers of notices meet the qualifications specified by the Act. The MMS uses the information collected to understand the G&G characteristics of hard mineral-bearing physiographic regions of the OCS. It aids MMS in obtaining a proper balance among the potentials for environmental damage, the discovery of hard minerals, and adverse impacts on affected coastal states. Information from permittees is necessary to determine the propriety and amount of reimbursement.

Responses are mandatory or required to obtain or retain a benefit. No questions of a “sensitive” nature are asked. The MMS protects information considered proprietary according to 30 CFR 280.70 and applicable sections of 30 CFR parts 250 and 252, and the Freedom of Information Act (5 U.S.C. 552) and its implementing regulations (43 CFR 2).

Frequency: On occasion, annual; and as required in the permit.

Estimated Number and Description of Respondents: Approximately one hard mineral permittee or one notice filer at any give time and one affected State.

Estimated Reporting and Recordkeeping “Hour” Burden: The currently approved annual reporting burden for this collection is 108 hours. The following chart details the individual components and respective hour burden estimates of this ICR. In calculating the burdens, we assumed that respondents perform certain requirements in the normal course of their activities. We consider these to be usual and customary and took that into account in estimating the burden.

Citation 30 CFR 280 | Reporting and recordkeeping requirement | Hour burden
10; 11(a); 12; 13; Permit Forms | Apply for permit (form MMS-134) to conduct prospecting or G&G scientific research activities, including prospecting/scientific research plan and environmental assessment or required drilling plan | 8
11(b); 12(c) | File notice to conduct scientific research activities related to hard minerals, including notice to MMS prior to beginning and after concluding activities | 8
21(a) | Report to MMS if hydrocarbon/other mineral occurrences or environmental hazards are detected or adverse effects occur | 1
22 | Request approval to modify operations | 1
23(b) | Request reimbursement for expenses for MMS inspection | 1
24 | Submit status and final reports quarterly or on specified schedule and final report | 8
28 | Request relinquishment of permit | 1
31(b); 73(a), (b) | Governor(s) of adjacent State(s) submissions to MMS: Comments on activities involving an environmental assessment; request for proprietary data, information, and samples; and disclosure agreement | 1
33, 34 | Appeal penalty, order, or decision—burden covered under 5 CFR 1320.4(a)(2), (c) |
40; 41; 50; 51; Permit Forms | Notify MMS and submit G&G data/information collected under a permit and/or processed by permittees or 3rd parties, including reports, logs or charts, results, analyses, descriptions, etc | 4
42(b); 52(b) | Advise 3rd party recipient of obligations. Part of licensing agreement between parties; no submission to MMS |
42(c), 42(d); 52(c), 52(d) | Notify MMS of 3rd party transactions | 1
60; 61(a) | Request reimbursement for costs of reproducing data/information & certain processing costs | 20
72(b) | Submit in not less than 5 days comments on MMS intent to disclose data/information | 1
72(d) | Contractor submits written commitment not to sell, trade, license, or disclose data/information | 1
Part 280 | General departure and alternative compliance requests not specifically covered elsewhere in part 280 regulations | 2
Permit Forms | Request extension of permit time period | 1
Permit Forms | Retain G&G data/information for 10 years and make available to MMS upon request | 1

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedure: MMS's practice is to make comments, including names and addresses of respondents, available for public review. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: May 19, 2005.
William Hauser,
Chief, Regulations and Standards Branch.

[FR Doc. 05-10385 Filed 5-24-05; 8:45 am]

BILLING CODE 4310-MR-P